DEPARTMENT OF ENERGY

Federal Energy Regulatory Commission

Combined Notice of Filings

November 2, 2010.

Take notice that the Commission has received the following Natural Gas Pipeline Rate and Refund Report filings:

Docket Numbers: RP11-1477-000.

Applicants: East Tennessee Natural Gas, LLC.

Description: East Tennessee Natural Gas, LLC submits tariff filing per 154.204: Daugherty and Stand negotiated rates to be effective 11/1/2010.

Filed Date: 11/01/2010.

Accession Number: 20101101-5038.

Comment Date: 5 p.m. Eastern Time on Monday, November 15, 2010.

Docket Numbers: RP11-1478-000.

Applicants: Texas Eastern Transmission, LP.

Description: Texas Eastern Transmission, LP submits tariff filing per 154.204: South Jersey 11-1-2010 Negotiated Rate to be effective 11/1/2010.

Filed Date: 11/01/2010.

Accession Number: 20101101-5060.

Comment Date: 5 p.m. Eastern Time on Monday, November 15, 2010.

Docket Numbers: RP11-1480-000.

Applicants: Marathon Oil Company.

Description: Petition for Waiver of Capacity Release Requirements of Marathon Oil Company.

Filed Date: 10/29/2010.

Accession Number: 20101029-5253.

Comment Date: 5 p.m. Eastern Time on Friday, November 5, 2010.

Docket Numbers: RP11-1481-000.

Applicants: CenterPoint Energy Gas Transmission Company.

Description: CenterPoint Energy Gas Transmission Company submits tariff filing per 154.204: Sculpted CD to be effective 12/1/2010.

Filed Date: 11/01/2010.

Accession Number: 20101101-5094.

Comment Date: 5 p.m. Eastern Time on Monday, November 15, 2010.

Docket Numbers: RP11-1482-000.

Applicants: CenterPoint Energy Gas Transmission Company.

Description: CenterPoint Energy Gas Transmission Company submits tariff filing per 154.204: November 1, 2010 Negotiated Rate Filing to be effective 11/1/2010.

Filed Date: 11/01/2010.

Accession Number: 20101101-5134.

Comment Date: 5 p.m. Eastern Time on Monday, November 15, 2010.

Docket Numbers: RP11-1483-000.

Applicants: Gulf Crossing Pipeline Company LLC.

Description: Gulf Crossing Pipeline Company LLC submits tariff filing per 154.204: Negotiated Rate Agreement—Newfield 4-30-10 to be effective 4/30/2010.

Filed Date: 11/01/2010.

Accession Number: 20101101-5139.

Comment Date: 5 p.m. Eastern Time on Monday, November 15, 2010.

Docket Numbers: RP11-1484-000.

Applicants: Tennessee Gas Pipeline Company.

Description: Tennessee Gas Pipeline Company submits tariff filing per 154.204: Modify: Maintenance Restriction & Notice to be effective 12/2/2010.

Filed Date: 11/01/2010.

Accession Number: 20101101-5151.

Comment Date: 5 p.m. Eastern Time on Monday, November 15, 2010.

Docket Numbers: RP11-1485-000.

Applicants: CenterPoint Energy—Mississippi River Transmission Corporation.

Description: CenterPoint Energy—Mississippi River Transmission Corporation submits tariff filing per 154.204: Forms of Service Agreements & Housekeeping to be effective 12/1/2010.

Filed Date: 11/01/2010.

Accession Number: 20101101-5159.

Comment Date: 5 p.m. Eastern Time on Monday, November 15, 2010.

Docket Numbers: RP11-1486-000.

Applicants: Williston Basin Interstate Pipeline Company.

Description: Williston Basin Interstate Pipeline Company submits tariff filing per 154.203: Compliance Filing—NAESB Version 1.9 to be effective 11/1/2010.

Filed Date: 11/01/2010.

Accession Number: 20101101-5160.

Comment Date: 5 p.m. Eastern Time on Monday, November 15, 2010.

Docket Numbers: RP11-1487-000.

Applicants: Gulf Crossing Pipeline Company LLC.

Description: Gulf Crossing Pipeline Company LLC submits tariff filing per 154.204: Negotiated Rate Capacity Release—Newfield to Targa to be effective 11/1/2010.

Filed Date: 11/01/2010.

Accession Number: 20101101-5162.

Comment Date: 5 p.m. Eastern Time on Monday, November 15, 2010.

Docket Numbers: RP11-1488-000.

Applicants: Gulf Crossing Pipeline Company LLC.

Description: Gulf Crossing Pipeline Company LLC submits tariff filing per 154.204: Negotiated Rate Capacity Release Newfield to Tenaska to be effective 11/1/2010.

Filed Date: 11/01/2010.

Accession Number: 20101101-5163.

Comment Date: 5 p.m. Eastern Time on Monday, November 15, 2010.

Docket Numbers: RP11-1489-000.

Applicants: PetroLogistics Natural Gas Storage, LLC.

Description: PetroLogistics Natural Gas Storage, LLC submits tariff filing per 154.203: Filing to Comply with October 20, 2010 Letter Order to be effective 9/28/2010.

Filed Date: 11/01/2010.

Accession Number: 20101101-5164.

Comment Date: 5 p.m. Eastern Time on Monday, November 15, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-28439 Filed 11-10-10; 8:45 am]

BILLING CODE 6717-01-P